DEPARTMENT OF DEFENSE

Office of the Secretary

[DoD-2006-OS-0074]

32 CFR Part 54

Allotments for Child Support and Spousal Support

AGENCY: Department of Defense.

ACTION: Final rule.

SUMMARY: The Department of Defense is administratively amending 32 CFR part 54, “Allotments for Child Support and Spousal Support” to identify the location of the policy and procedures for Allotments for Child Support and Spousal Support in the DoD Directives System. All other information remains unchanged.

DATES: This rule is effective July 18, 2006.

FOR FURTHER INFORMATION CONTACT: L. Bynum, 703-696-4970.

SUPPLEMENTARY INFORMATION: DoD Directive 1340.17, which was originally codified in the CFR as 32 CFR part 54, has been removed from the DoD Directives System. The sentence added to inform readers that were previously used to making cross-reference to the Directive will now know where to locate additional information.

List of Subjects in 32 CFR Part 54

Alimony, Child support, Military personnel, Reporting and recordkeeping requirements, Wages.

Accordingly, 32 CFR part 54 is amended as follows:

PART 54—ALLOTMENTS FOR CHILD AND SPOUSAL SUPPORT

1. The authority citation for 32 CFR part 54 continues to read as follows:

Authority: 15 U.S.C. 1673, 37 U.S.C. 101, 42 U.S.C. 665.

2. Section 54.1 is amended by adding a sentence at the end of the section to read as follows:

§ 54.1 Purpose.

* * * The policy and procedures for this part are also located in the DoD Financial Management Regulation (“DoDFMR”), Volume 7B, Chapter 43, section 4304, “Allotments for Child Support and Spousal Support” (DoD 7000.14-R).

Dated: July 12, 2006.
L.M. Bynum,
OSD Federal Register Liaison Officer, Department of Defense.

[FR Doc. E6-11323 Filed 7-17-06; 8:45 am]

BILLING CODE 5001-06-P